DEPARTMENT OF ENERGY

Bonneville Power Administration; Summit/Westward Project

AGENCY: Bonneville Power Administration (BPA), Department of Energy (DOE).

ACTION: Notice of availability of Revised Record of Decision (ROD).

SUMMARY: This notice announces the availability of the Revised ROD to offer contract terms for an optional electrical interconnection of the proposed Summit/Westward Project into the Federal Columbia River Transmission System at a point near the existing Wauna Substation of the Clatskanie People's Utility District (CPUD), Columbia County, Oregon. The project developer, Westward Energy, LLC, is evaluating this interconnection plan along with BPA's previous offer for interconnection at BPA's Allston Substation (documented in a ROD dated July 25, 2003). BPA's decision to offer contract terms is consistent with our Business Plan Final Environmental Impact Statement (DOE/EIS-0183, June 1995) and the Business Plan ROD (August 1995). In a related action, BPA has also decided to facilitate CPUD construction of a new 230-kilovolt transmission line by allowing joint use of BPA right-of-way through partial reconstruction of BPA's 115-kilovolt Allston-Astoria No. 1 transmission line from single-circuit H-frame wood-pole design to double-circuit single metal-pole design. Terms of BPA's participation in this project will be documented in a Construction Agreement.

ADDRESSES: Copies of the Business Plan EIS and ROD, the Summit/Westward ROD of July 25, 2003, and this Revised ROD may be obtained by calling BPA's toll-free document request line, 1-800-622-4520. These documents are also available on our Web site at http://www.efw.bpa.gov.

FOR FURTHER INFORMATION CONTACT: Thomas C. McKinney, Bonneville Power Administration—KEC-4, P.O. Box 3621, Portland, Oregon, 97208-3621; toll-free telephone number 1-800-282-3713; fax number 503-230-5699; or e-mail tcmckinney@bpa.gov.

Issued in Portland, Oregon, on October 21, 2004.
Stephen J. Wright,
Administrator and Chief Executive Officer.

[FR Doc. 04-24224 Filed 10-28-04; 8:45 am]

BILLING CODE 6450-01-P